DEPARTMENT OF LABOR

Employment and Training Administration

[NAFTA-6387, NAFTA-6387A, and NAFTA-6387B]

Pfaltzgraff Company, Also Known as Susquehanna Pfaltzgraff, York, PA, Thomasville, PA, and Dover, PA; Amended Certification Regarding Eligibility To Apply for NAFTA-Transitional Adjustment Assistance

In accordance with section 250(a), subchapter D, chapter 2, Title II, of the Trade Act of 1974, as amended (19 U.S.C. 2273), the Department of Labor issued a Certification of Eligibility to Apply for NAFTA-Transitional Adjustment Assistance on September 10, 2002, applicable to workers of Pfaltzgraff Company, also known as Susquehanna Pfaltzgraff, located in York, Pennsylvania. The notice was published in the Federal Register on September 27, 2002 (67 FR 61162).

At the request of a company official, the Department reviewed the certification for workers of the subject firm. The workers produce dinnerware. The company official reports that worker separations have occurred at the company's dinnerware production plants in Thomasville and Dover, Pennsylvania.

The intent of the Department's certification is to include all workers of the subject firm that been impacted by the increase in company imports from Mexico. Since corporate-wide sales have declined and company imports have increased, the Department is amending the certification to include workers at the plants in Thomasville and Dover, Pennsylvania.

The amended notice applicable to NAFTA-6387 is hereby issued as follows:

“All workers of Pfaltzgraff Company, also known as Susquehanna Pfaltzgraff, York, Pennsylvania (NAFTA-6387), Thomasville, Pennsylvania (NAFTA-6387A), and Dover, Pennsylvania (NAFTA-6387B), who became totally or partially separated from employment on or after July 15, 2001, through September 10, 2004, are eligible to apply for NAFTA-TAA under Section 250 of the Trade Act of 1974.”

Signed in Washington, DC, this 3rd day of December, 2002.
Linda G. Poole,
Certifying Officer, Division of Trade Adjustment Assistance.

[FR Doc. 02-32594 Filed 12-24-02; 8:45 am]

BILLING CODE 4510-30-P